DEPARTMENT OF TRANSPORTATION

Federal Aviation Administration

Public Notice for Waiver of Aeronautical Land-Use Assurance Jefferson County Airpark Steubenville, OH

AGENCY: Federal Aviation Administration, DOT.

ACTION: Notice of intent of waiver with respect to land.

SUMMARY: The Federal Aviation Administration (FAA) is considering a proposal to change a portion of the airport from aeronautical use to non-aeronautical use and to authorize the release of 1.8473 acres of airport property for non-aeronautical development. The land consists of a portion of a 3.728 acre parcel acquired under grant 3-390074-10. There are no impacts to the airport by allowing the Jefferson County to lease the property. The land is not needed for aeronautical use. Approval does not constitute a commitment by the FAA to financially assist in the lease of the subject airport property nor a determination of eligibility for grant-in-aid funding from the FAA. The disposition of proceeds from the lease of the airport property will be in accordance with FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before December 14, 2009.

ADDRESSES: Written comments on the Sponsor's request must be delivered or mailed to: Alex Erskine, Program Manager, Detroit Airports District Office, 11677 South Wayne Road, Suite 107, Romulus, MI 48174.

FOR FURTHER INFORMATION CONTACT: Alex Erskine, Program Manager, Federal Aviation Administration, Great Lakes Region, Detroit Airports District Office, DET ADO-614, 11677 South Wayne Road, Suite 107, Romulus, Michigan 48174. Telephone Number (734-229-2927)/FAX Number (734-229-2950). Documents reflecting this FZAA action may be reviewed at this same location or at Jefferson County Airpark, Steubenville, Ohio.

SUPPLEMENTARY INFORMATION:

Parcel Legal Description

Property located in the northeast and northwest quarters of Section 23, Township 6, Range 2, Cross Creek Township, Jefferson County, Ohio, and being part of the Board of County Commissioners of Jefferson County, Ohio tract of 3.727650 acres, Official Record Volume 612, Page 400, Tax Map Parcel #1-F (hereinafter referred to as Board tract) of the Jefferson County Recorder's Office, and known to the Federal Aviation Administration as a combination of parts of Parcel No. 16 and Parcel No. 19 as shown on the Property Plan of FAA Site No. l8562.A, Jefferson County Airpark, Steubenville, Ohio, said parcel combination hereinafter to be known to the FAA as Parcel No. 19-B, and being more fully described as follows:

Beginning at a point on the curved northerly 100-foot right-of-way of Airpark Drive where the right of way crosses the centerline of a vacated portion of old County Road #33 and on a northwesterly line of the aforementioned Board tract;

Thence with lines of the Board tract the following three courses and distances: N61°40′14″ E, 232.32 feet to a point near the centerline of the old road;

Thence N 62°20′16″ E, 216.00 feet to a point in the east bound lane of the old road;

Thence leaving the road, S 0°54′16″ W, 451.07 feet to a point on the northerly right-of-way of Airpark Drive;

Thence along the right of way and through the Board tract the following two courses and distances;

N 52°16′55″ W, 292.77 feet to a point of curve;

Thence along a curve to the left, radius 299.11 feet and central angle 32°45′09″, an arc length of 170.98 feet, and chord of N 68°39′29″ W, 168.66 feet to the place of beginning containing 1.8473 acres, leaving 1.88035 acres remaining in the Board tract.

Also leaving 2.0235 acres in Airpark Parcel No. 16, and 0.0008 acre in Airpark Parcel No. 19.

Basis of bearings is the record direction of the northerly right-of-way line of Airpark Drive, being the next to last line above-described.

Issued in Romulus, Michigan on October 1, 2009.
Matthew J. Thys,
Manager, Detroit Airports District Office, FAA, Great Lakes Region.

[FR Doc. E9-26938 Filed 11-10-09; 8:45 am]

BILLING CODE M